DEPARTMENT OF AGRICULTURE

Food and Nutrition Service

Agency Information Collection Activities: Proposed Collection; Comment Request—Summer Food Service Program (SFSP)

AGENCY: Food and Nutrition Service (FNS), U.S. Department of Agriculture (USDA)

ACTION: Notice.

SUMMARY: In accordance with the Paperwork Reduction Act of 1995 (Pub. L. 104-13) and Office of Management and Budget (OMB) regulations in 5 CFR part 1320 (60 FR 44978, August 29, 1995), this notice announces FNS's intention to request OMB approval for a new information collection in support of a study of Summer Food Service Program (SFSP) State agencies, sponsoring organizations, site directors, parents or caregivers of children who participated in the program, and parents or caregivers of children who were eligible for the program but did not participate.

DATES: Comments on this notice must be received by March 4, 2014 to be assured of consideration.

ADDRESSES: Written comments are invited on (a) whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who are to respond, including the use of appropriate automated, electronic, mechanical, or other technology.

Comments may be sent to Chanchalat Chanhatasilpa, Office of Policy Support, Special Nutrition Research and Analysis Division, Food and Nutrition Service, U.S. Department of Agriculture, 3101 Park Center Drive, Alexandria, VA 22302. Comments may also be faxed to the attention of Mr. Chanhatasilpa at 703-305-2576; or via email to: chanchalat.chanhatasilpa@fns.usda.gov. Comments will also be accepted through the Federal eRulemaking Portal. Go to http://www.regulations.gov, and follow the online instructions for submitting comments electronically.

All responses to this notice will be summarized and included in the request for OMB approval. All comments will also become a matter of public record.

FOR FURTHER INFORMATION CONTACT: Requests for additional information should be directed to: Chanchalat Chanhatasilpa, Office of Policy Support, Special Nutrition Research and Analysis Division, Food and Nutrition Service, U.S. Department of Agriculture, 3101 Park Center Drive, Alexandria, VA 22302; telephone 703-305-2115; fax 703-305-2576.

SUPPLEMENTARY INFORMATION: Title: Application for Food and Nutrition Service (FNS) collection of information for The Summer Food Service Program (SFSP) Implementation Study.

OMB Number: Not yet assigned.

Expiration Date: N/A.

Type of Request: Approval for new data collection from SFSP State agencies, sponsoring organizations, site directors, parents or caregivers of children who participated in the program, and parents or caregivers of children who were eligible for the program but did not participate.

Abstract: School-age children are more susceptible to food insecurity during the summer when they do not have access to meals provided at school. The SFSP was designed to ensure that children who benefit from the National School Lunch Program (NSLP) and the School Breakfast Program (SBP) do not experience a nutrition gap during the summer. Despite ongoing efforts to increase participation, the SFSP only reaches a small fraction of all eligible children, and there is a large gap in participation levels between the NSLP and the SFSP. Therefore, the USDA needs to obtain detailed information on SFSP operation and administration at the State, sponsor, and site levels, as well as characteristics of providers, participants, and non-participants, in order to identify the factors that contribute to program participation by sponsors, sites, and children. The study will also allow the USDA to determine future changes in SFSP policy that improve program participation and operations. Since the last national study of the program, conducted in 2003, there have been significant policy changes that could impact program operation and participation. Furthermore, limited administrative data are collected at the national level on the SFSP's operations at the State agency, sponsor, and site levels.

Affected Public:

To evaluate how SFSP program operations and other factors contribute to participation at the State, sponsor, and site levels, as well as to study characteristics of providers, participants, and eligible non-participants, a variety of information must be obtained. Data for this study will be collected from four types of participants:

1. State agencies from all 54 States and territories, including Washington, DC, Puerto Rico, and the Virgin Islands. The data collection will involve a self-administered web survey and telephone follow-up of non-respondents with State administrators of the agencies that operate the SFSP (in some States, with the FNS regional office staff who administer the program). In addition, State agencies will be asked to provide administrative data on their sponsors, and those sponsors will provide information on their sites.

2. Program staff from a nationally representative sample of 350 current SFSP sponsors, such as School Food Authorities (SFA), government agencies, residential camps, or other nonprofit organizations. The data collection will involve a self-administered web survey with telephone follow-up of non-respondents. In addition, sponsors will be asked to provide administrative data on their sites.

3. Site directors from a nationally representative sample of 380 sites. The data collection will involve a self-administered web survey with telephone follow-up of non-respondents. In addition, up to six sites will be asked to provide contact information for their participants and eligible non-participants.

4. A convenience sample of 25 parents or caregivers of SFSP participating children and 25 eligible non-participating children. The data collection will involve interviews over the telephone.

The data will be collected on a one-time basis in 2015, beginning with collecting States' administrative records from 2/1/15 through 6/1/15. The data collection with States, sponsors, sites, participants, and nonparticipants will be conducted from 5/1/15 through 11/12/15.

Estimate of Burden:

Respondent burden will be minimized by using the web survey that streamlines the data collection process. Burden will also be minimized by relying on administrative records for variables that are consistently available across States, sponsors, and sites. In addition, States and sponsors will be encouraged to provide lists or other administrative records in whatever form is most convenient to them.

To obtain administrative records, the estimated burden will be:

• State Administrators: 5 hours to compile the lists of sponsors and sites

• Sponsors: 2 hours to compile the lists of sites

• Two schools or SFA sites: 2 hours to compile the lists of participants and eligible non-participants (participating in school lunch or breakfast programs).

To complete the surveys and interviews, the estimated burden will be:

• State Administrators: 1.5 hours to complete the survey.

• Sponsor Staff: 1.5 hours to complete the survey.

• Site Directors: 1 hour to complete the survey.

• Parents/Caregivers of Participants: 45 minutes to complete the telephone interview.

• Parents/Caregivers of Eligible Non-Participants: 30 minutes to complete the telephone interview.

Exhibit 1 provides estimates of the data collection burden.

Exhibit 1—Estimated Burden Hours
Type of respondent | Number of respondents | Estimated number of responses per respondent | Estimated total annual responses | Estimated avg. number of hours per response | Estimated total hours
State Administrators | 54 | 1 | 54 | 6.5 | 351
Sponsor Staff | 350 | 1 | 350 | 3.5 | 1,225
Site Directors | 380 | 1 | 380 | 1.01 | 384
Parents/Caregivers of Participants | 25 | 1 | 25 | 0.75 | 18.75
Parents/Caregivers of Eligible Non-Participants | 25 | 1 | 25 | 0.5 | 12.5
Total Burden | 834 |  | 834 |  | 1,991.25

Dated: December 24, 2013.
Yvette S. Jackson,
Acting Administrator, Food and Nutrition Service.

[FR Doc. 2013-31359 Filed 12-31-13; 8:45 am]

BILLING CODE 3410-30-P